DEPARTMENT OF COMMERCE

Foreign-Trade Zones Board

[B-38-2017]

Foreign-Trade Zone (FTZ) 68—El Paso, Texas; Authorization of Production Activity; PGTEX USA, Inc.; (Fiber Glass Fabrics); El Paso, Texas

On May 19, 2017, PGTEX USA, Inc. (PGTEX) submitted a notification of proposed production activity to the FTZ Board for its facility within FTZ 68—Site 3, in El Paso, Texas.

The notification was processed in accordance with the regulations of the FTZ Board (15 CFR part 400), including notice in the Federal Register inviting public comment (82 FR 27797-27798, June 19, 2017). On September 18, 2017, the applicant was notified of the FTZ Board's decision that no further review of the activity is warranted at this time. The production activity described in the notification was authorized, subject to the FTZ Act and the FTZ Board's regulations, including Section 400.14, and further subject to a restriction requiring that foreign-status glass fiber rovings be admitted to the subzone in privileged foreign status (19 CFR 146.41).

Dated: October 30, 2017.
Andrew McGilvray,
Executive Secretary.

[FR Doc. 2017-23870 Filed 11-1-17; 8:45 am]

BILLING CODE 3510-DS-P